DEPARTMENT OF ENERGY

Federal Energy Regulatory Commission

[Docket No. CP15-525-000]

UGI Sunbury, LLC; Revised Notice of Schedule for Environmental Review of the Sunbury Pipeline Project

This notice identifies the Federal Energy Regulatory Commission (Commission or FERC) staff's revised schedule for the completion of the environmental assessment (EA) for UGI Sunbury LLC's Sunbury Pipeline Project. The previous notice of schedule, issued on November 9, 2015, identified January 7, 2016 as the EA issuance date.

Schedule for Environmental Review

Issuance of EA—December 28, 2015

90-day Federal Authorization Decision Deadline—March 27, 2016

If a schedule change becomes necessary, additional notice will be provided so that the relevant agencies are kept informed of the project's progress.

Additional Information

In order to receive notification of the issuance of the EA and to keep track of all formal issuances and submittals in specific dockets, the Commission offers a free service called eSubscription. Go to www.ferc.gov/docs-filing/esubscription.asp.

Dated: December 16, 2015.
Nathaniel J. Davis, Sr.,
Deputy Secretary.

[FR Doc. 2015-32126 Filed 12-21-15; 8:45 am]

BILLING CODE 6717-01-P